NUCLEAR REGULATORY COMMISSION

[NRC-2013-0001]

Sunshine Act Meeting Notice

DATE: Weeks of November 4, 11, 18, 25, December 2, 9, 2013.

PLACE: Commissioners' Conference Room, 11555 Rockville Pike, Rockville, Maryland.

STATUS: Public and Closed.

Week of November 4, 2013—Tentative

There are no meetings scheduled for the week of November 4, 2013.

Week of November 11, 2013—Tentative

There are no meetings scheduled for the week of November 11, 2013.

Week of November 18, 2013—Tentative

There are no meetings scheduled for the week of November 18, 2013.

Week of November 25, 2013—Tentative

There are no meetings scheduled for the week of November 25, 2013.

Week of December 2, 2013—Tentative

There are no meetings scheduled for the week of December 2, 2013.

Week of December 9, 2013—Tentative

There are no meetings scheduled for the week of December 9, 2013.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: October 31, 2013.
Rochelle C. Bavol,
Policy Coordinator, Office of the Secretary,

[FR Doc. 2013-26583 Filed 11-1-13; 4:15 pm]

BILLING CODE 7590-01-P